DEPARTMENT OF AGRICULTURE

Natural Resources Conservation Service

Notice of Meeting of the Agricultural Air Quality Task Force

AGENCY: Natural Resources Conservation Service (NRCS), USDA.

ACTION: Notice of meeting.

SUMMARY: The Agricultural Air Quality Task Force (AAQTF) will meet to continue discussions on critical air quality issues in relation to agriculture. Special emphasis will be placed on obtaining a greater understanding about the relationship between agricultural production and air quality.

DATES: The meeting will begin on Sunday, November 13, 2005, and will end on Tuesday, November 15, 2005. Individuals with written materials, and those who have requests to make oral presentations, should contact NRCS at the address listed below, on or before October 21, 2005.

ADDRESSES: The meeting will be held at the Renaissance Wailea, 3550 Wailea Alanui Drive, Wailea-Maui, Hawaii 96753; telephone: (808) 879-4900. Written material and requests to make oral presentations should be sent to Dr. Diane Gelburd, Designated Federal Official, NRCS, 1400 Independence Avenue, NW., Room 6158-S, Washington, DC 20250.

FOR FURTHER INFORMATION, CONTACT: Questions or comments should be directed to Dr. Diane Gelburd, Designated Federal Official; telephone: (202) 720-2587; fax: (202) 720-2646; e-mail: Diane.Gelburd@wdc.usda.gov.

SUPPLEMENTARY INFORMATION: Notice of this meeting is given under the Federal Advisory Committee Act, 5 U.S.C., App. 2. Additional information concerning the AAQTF may be found on the World Wide Web at http://www.airquality.nrcs.usda.gov/AAQTF/.

Draft Agenda of the November 13-15, 2005 Meeting of the AAQTF

A. Welcome to Maui, Hawaii

Local and USDA NRCS officials

B. Discussion of Minutes From Meeting of Previous AAQTF meeting

C. Subcommittee Presentations

1. Emerging Issues Committee Report

2. Research Committee Report

3. Policy Committee Report

4. Education/Technology Transfer Committee Report

D. Research and Technical Presentations

E. Environmental Protection Agency Update

F. Next Meeting, Time and Place

G. Public Input

(Time will be reserved in the morning and afternoon of each daily session to receive public comment. Individual presentations will be limited to 5 minutes).

Procedural

This meeting is open to the public. At the discretion of the Chair, members of the public may give oral presentations during the meeting. Those persons wishing to make oral presentations should identify themselves in person at the meeting sign-in desk. A person submitting written materials should submit 50 copies to Dr. Gelburd no later than October 21, 2005.

Information on Services for Individuals With Disabilities

For information on facilities or services for individuals with disabilities, or to request special assistance at the meeting, please contact Dr. Gelburd. USDA prohibits discrimination in its programs and activities on the basis of race, color, national origin, gender, religion, age, sexual orientation, or disability. Additionally, discrimination on the basis of political beliefs and marital or family status is also prohibited by statutes enforced by USDA (not all prohibited bases apply to all programs). Persons with disabilities who require alternate means for communication of program information (Braille, large print, audio tape, etc.) should contact the USDA's Target Center at (202) 720-2000 (voice and TDD). USDA is an equal opportunity provider and employer.

Signed in Washington, DC on September 26, 2005.
Bruce I. Knight,
Chief.

[FR Doc. 05-19770 Filed 10-3-05; 8:45 am]

BILLING CODE 3410-06-P